DEPARTMENT OF TRANSPORTATION

Federal Railroad Administration

Environmental Impact Statement for the California High Speed Train Project From Palmdale to Bakersfield, CA

AGENCY: Federal Railroad Administration (FRA), Department of Transportation (DOT).

ACTION: Notice of Intent to prepare an Environmental Impact Statement.

SUMMARY: This notice is to advise the public that FRA and the California High-Speed Rail Authority (Authority) will jointly prepare a project Environmental Impact Statement (EIS) and project Environmental Impact Report (EIR) for the Palmdale to Bakersfield section of the Authority's proposed California High Speed Train (HST) System in compliance with relevant state and federal laws, in particular the National Environmental Policy Act (NEPA) and the California Environmental Quality Act (CEQA).

In 2001, the Authority and FRA started a tiered environmental review process for the HST system and in 2005, completed the first tier California High Speed Train Program EIR/EIS (Statewide Program EIR/EIS) and approved the statewide HST system for intercity travel in California between the major metropolitan centers of Sacramento and the San Francisco Bay Area in the north, through the Central Valley, to Los Angeles and San Diego in the south. The approved HST system would be about 800-miles long, with electric propulsion and steel-wheel-on-steel-rail trains capable of maximum operating speeds of 220 miles per hour (mph) on a mostly dedicated system of fully grade-separated, access-controlled steel track and with state-of-the-art safety, signaling, communication, and automated train control systems. In approving the HST system, the Authority and FRA also selected preferred corridor alignments and station location options throughout most of the system. In 2008, the Authority and FRA completed a second program EIR/EIS to evaluate alignments and station locations within the broad corridor between and including the Altamont Pass and the Pacheco Pass to connect the Bay Area and Central Valley portions of the HST system.

The preparation of the Palmdale to Bakersfield HST Project EIR/EIS will involve the development of preliminary engineering designs and the assessment of potential environmental effects associated with the construction, operation, and maintenance of the HST system, including track and ancillary facilities along the State Route 58/14 corridor from Bakersfield to Palmdale.

DATES: Written comments on the scope of the Palmdale to Bakersfield HST Project EIR/EIS should be provided to the Authority by 5 p.m., Monday, November 2, 2009. Public scoping meetings are scheduled from September 15, 2009 to September 17, 2009, as noted below in the cities of Bakersfield, CA, Tehachapi, CA and Palmdale, CA.

ADDRESSES: Written comments on the scope should be sent to Ms. Carrie Bowen, Regional Director, ATTN: Bakersfield to Palmdale, California High Speed Rail Authority, 925 L Street, Suite 1425, Sacramento, CA 95814, or via e-mail with subject line “Palmdale to Bakersfield HST” to: comments@hsr.ca.gov. Comments may also be provided orally or in writing at the scoping meetings scheduled at the following locations:

• Red Lion Hotel, 2400 Camino Del Rio Court. Bakersfield, CA 93308, 3 p.m. to 7 p.m., September 15, 2009.

• Stallion Springs Community Center, 27850 Stallion Springs Drive, Tehachapi, CA 93561, 3 p.m. to 7 p.m., September 16, 2009.

• Chimbole Cultural Center, 38350 Sierra Highway, Palmdale, CA 93550, 3 p.m. to 7 p.m., September 17, 2009.

FOR FURTHER INFORMATION CONTACT: Mr. David Valenstein, Environmental Program Manager, Office of Railroad Development, Federal Railroad Administration, 1200 New Jersey Avenue, SE., (Mail Stop 20), Washington, DC 20590; Telephone: (202) 493-6368, or Ms. Carrie Bowen, Telephone: (559) 221-2636 at the above noted address.

SUPPLEMENTARY INFORMATION: The Authority was established in 1996 and is authorized and directed by statue to undertake the planning and development of a proposed statewide HST network that is fully coordinated with other public transportation services. The Authority adopted a Final Business Plan in June 2000, which reviewed the economic feasibility of an 800-mile-long HST capable of speeds in excess of 200 miles per hour on a mostly dedicated, fully grade-separated state-of-the-art track. The Authority released an updated Business Plan in November 2008.

The FRA has responsibility for overseeing the safety of railroad operations, including the safety of any proposed high-speed ground transportation system. For the proposed HST, it is anticipated that FRA would need to take certain regulatory actions prior to operation.

In 2005, the Authority and FRA completed the Statewide Program EIR/EIS for the Proposed California High Speed Train System, as the first phase of a tiered environmental review process. The Authority certified the Statewide Program EIR under CEQA and approved the proposed HST System. FRA issued a Record of Decision on the Statewide Program EIR/EIS as required under NEPA. The Statewide Program EIR/EIS established the purpose and need for the HST system, analyzed an HST system, and compared the proposed HST system with a No Project/No Action Alternative and a Modal Alternative. In approving the Statewide Program EIR/EIS, the Authority and FRA selected the HST Alternative, selected certain corridors/general alignments and general station locations for further study, incorporated mitigation strategies and design practices, and specified further measures to guide the development of the HST system during the site-specific, project level environmental review to avoid and minimize potential adverse environmental impacts. In the Statewide Program EIR/EIS, the Authority and FRA selected the State Route 58/14 corridor for the Palmdale to Bakersfield section of the HST.

The Palmdale to Bakersfield HST Project EIR/EIS will tier from the Statewide Program EIR/EIS and the Final Bay Area to Central Valley HST Program EIR/EIS in accordance with Council on Environmental Quality (CEQ) regulations, (40 CFR 1508.28) and State CEQA Guidelines (14 C.C.R. 15168(b)). Tiering ensures that the Palmdale to Bakersfield HST Project EIR/EIS builds upon all previous work prepared for, and incorporated in, the Statewide Program EIR/EIS and the Bay Area to Central Valley HST Program EIR/EIS.

The Palmdale to Bakersfield HST Project EIR/EIS will describe site-specific environmental impacts, identify specific mitigation measures to address those impacts, and incorporate design practices to avoid and minimize potential adverse environmental impacts. The FRA and the Authority will assess the site characteristics, size, nature, and timing of proposed site-specific projects to determine whether the impacts are potentially significant and whether impacts can be avoided or mitigated. This project EIR/EIS will identify and evaluate reasonable and feasible site-specific alignment alternatives, and evaluate the impacts of construction, operation, and maintenance of the HST system. Information and documents regarding this HST environmental review process will be made available through the Authority's Internet site: http://www.cahighspeedrail.gov/.

Purpose and Need: The purpose of the proposed HST system is to provide a new mode of high-speed intercity travel that would link major metropolitan areas of the state; interface with airports, mass transit, and highways; and provide added capacity to meet increased intercity travel demand in California in a manner sensitive to and protective of California's unique natural resources. The need for a HST system is directly related to the expected growth in population, and increases in intercity travel demand in California over the next twenty years and beyond. With the growth in travel demand, there will be an increase in travel delays arising from the growing congestion on California's highways and airports. In addition, there will be negative effects on the economy, quality of life, and air quality in and around California's metropolitan areas from an increasingly congested transportation system that will become less reliable as travel demand increases. The intercity highway system, commercial airports, and conventional passenger rail serving the intercity travel market are currently operating at or near capacity, and will require large public investments for maintenance and expansion to meet existing demand and future growth. The proposed HST system is designed to address some social, economic and environmental problems associated with transportation congestion in California.

Alternatives: The Palmdale to Bakersfield HST Project EIR/EIS will consider a No Action or No Project Alternative and an HST Alternative for the Palmdale to Bakersfield section.

No Action Alternative: The No Action Alternative (No Project or No Build) represents the conditions in the corridor as it existed in 2007, and as it would exist based on programmed and funded improvements to the intercity transportation system and other reasonably foreseeable projects through 2035, taking into account the following sources of information: The State Transportation Improvement Program (STIP) and Regional Transportation Plans (RTPs) for all modes of travel, airport plans, intercity passenger rail plans, city and county plans.

HST Alternative: The Authority proposes to construct, operate and maintain an electric-powered steel-wheel-on-steel-rail HST system, about 800 miles long, capable of operating speeds of 220 mph on mostly dedicated, fully graded-separated tracks, with state-of-the-art safety, signaling, and automated train control systems. In the Statewide Program EIR/EIS, the Authority and FRA selected the State Route 58/14 corridor for the Palmdale to Bakersfield section of the HST. Engineering studies undertaken as part of this EIR/EIS process will examine and refine alignments in the State Route 58/14 corridor. The entire alignment would be grade separated. The options to be considered for the design of grade separated roadway crossings would include (1) Depressing the street to pass under the rail line; (2) elevating the street to pass over the rail line; and (3) leaving the street as-is and constructing rail line improvements to pass over or under the local street. In addition, alternative sites for right-of-way maintenance, train storage facilities and a heavy maintenance and repair facility will be evaluated in the Palmdale to Bakersfield HST project area.

No station would be included in this section as this project connects the HST line in the Central Valley with the HST line from Los Angeles and stations are being evaluated as part of the project EIR/EISs associated with those HST sections. A station at the Palmdale Airport/Transportation Center is being evaluated in the Los Angeles to Palmdale HST Project EIR/EIS. The Truxtun station option in downtown Bakersfield at the other end of this section is being evaluated in the Bakersfield to Merced HST Project EIR/EIS. These station locations were selected by the Authority and FRA in the Program EIR/EIS documents after considering the project purpose and need, and the program objectives.

Probable Effects: The purpose of the EIR/EIS process is to explore, in a public setting, the effects of the proposed project on the physical, human, and natural environment. The FRA and Authority will continue the tiered evaluation of all significant environmental, social, and economic impacts of the construction and operation of the HST system. Impact areas to be addressed include transportation impacts; safety and security; land use and zoning; land acquisition, displacements, and relocations and cumulative and secondary impacts; agricultural land impacts; cultural resources impacts, including impacts on historical and archaeological resources and parklands/recreation areas; neighborhood compatibility and environmental justice; natural resource impacts including air quality, wetlands, water resources, noise, vibration, energy, wildlife and ecosystems, including endangered species. Measures to avoid, minimize, and mitigate adverse impacts will be identified and evaluated.

The Palmdale to Bakersfield HST Project EIR/EIS will be prepared in accordance with FRA's Procedures for Considering Environmental Impacts (64 FR 28545 (May 26, 1999)) and will address, as necessary, other applicable statutes, regulations, and executive orders, including the Clean Air Act, Section 404 of the Clean Water Act, Section 106 of the National Historic Preservation Act of 1966, Section 4(f) of the Department of Transportation Act, the Endangered Species Act, and Executive Order 12898 on Environmental Justice.

This EIR/EIS process will also continue the NEPA/Clean Water Act Section 404 integration process established through the Statewide Program EIR/EIS process. The EIR/EIS will evaluate project alignment alternatives and station and maintenance facility locations to support a determination of the Least Environmentally Damaging Practicable Alternative (LEDPA) by the U.S. Army Corps of Engineers.

Scoping and Comments: FRA encourages broad participation in the EIS process during scoping and review of the resulting environmental documents. Comments are invited from all interested agencies and the public to ensure the full range of issues related to the proposed action and reasonable alternatives are addressed and all significant issues are identified. In particular, FRA is interested in hearing from communities whether there are areas of environmental concern where there might be a potential for significant site-specific impacts from the high-speed transportation projects in the Palmdale to Bakersfield section. Public agencies with jurisdiction are requested to advise FRA and the Authority of the applicable permit and environmental review requirements of each agency, and the scope and content of the environmental information germane to the agency's statutory responsibilities relevant to the proposed project. Public agencies are requested to advise FRA if they anticipate taking a major action in connection with the proposed project and if they wish to cooperate in the preparation of the Project EIR/EIS. Public scoping meetings have been scheduled and are an important component of the scoping process for both the State and Federal environmental review. The scoping meetings described in this Notice will also be the subject of additional public notification.

FRA is seeking participation and input of all interested federal, state, and local agencies, Native American groups, and other concerned private organizations or individuals on the scope of the EIR/EIS. Implementation of the Palmdale to Bakersfield section of the HST system is a federal undertaking with the potential to affect historic properties. As such, it is subject to the requirements of Section 106 of the National Historic Preservation Act of 1966 (16 U.S.C. 470f). In accordance with regulations issued by the Advisory Council on Historic Preservation, 36 CFR part 800, FRA intends to coordinate compliance with Section 106 of this Act with the preparation of the EIR/EIS, beginning with the identification of consulting parties through the scoping process, in a manner consistent with the standards set out in 36 CFR 800.8.

Issued in Washington, DC, on August 28, 2009.
Mark E. Yachmetz,
Associate Administrator for Railroad Development, Federal Railroad Administration.

[FR Doc. E9-21381 Filed 9-3-09; 8:45 am]

BILLING CODE 4910-06-P